DEPARTMENT OF ENERGY

Federal Energy Regulatory Commission

Combined Notice of Filings #1

Take notice that the Commission received the following exempt wholesale generator filings:

Docket Numbers: EG21-117-000.

Applicants: Azure Sky Solar Project, LLC.

Description: Notice of Self-Certification of Exempt Wholesale Generator Status of Azure Sky Solar Project, LLC.

Filed Date: 3/18/21.

Accession Number: 20210318-5292.

Comments Due: 5 p.m. ET 4/8/21.

Docket Numbers: EG21-118-000.

Applicants: Sky River Wind, LLC.

Description: Notice of Self-Certification of Exempt Wholesale Generator Status of Sky River Wind, LLC.

Filed Date: 3/25/21.

Accession Number: 20210325-5243.

Comments Due: 5 p.m. ET 4/15/21.

Take notice that the Commission received the following electric rate filings:

Docket Numbers: ER19-2507-003; ER13-1793-015; ER12-1260-016.

Applicants: Convergent Energy and Power LP, Hazle Spindle, LLC, Stephentown Spindle, LLC.

Description: Supplement to July 30, 2020 Notice of Change in Status of the Convergent MBR Sellers.

Filed Date: 3/25/21.

Accession Number: 20210325-5249.

Comments Due: 5 p.m. ET 4/15/21.

Docket Numbers: ER21-1020-001.

Applicants: Midcontinent Independent System Operator, Inc., ALLETE, Inc.

Description: Tariff Amendment: 2021-03-26_Amendment to ALLETE Depreciation Rate Filing to be effective 1/1/2020.

Filed Date: 3/26/21.

Accession Number: 20210326-5111.

Comments Due: 5 p.m. ET 4/16/21.

Docket Numbers: ER21-1519-000.

Applicants: Cool Springs Solar, LLC.

Description: Baseline eTariff Filing: Cool Springs Solar, LLC Application for MBR Authority to be effective 5/25/2021.

Filed Date: 3/25/21.

Accession Number: 20210325-5185.

Comments Due: 5 p.m. ET 4/15/21.

Docket Numbers: ER21-1520-000.

Applicants: PJM Interconnection, L.L.C.

Description: § 205(d) Rate Filing: Amendment to ISA, Service Agreement No. 4518; Queue No. W4-005 to be effective 6/30/2017.

Filed Date: 3/26/21.

Accession Number: 20210326-5009.

Comments Due: 5 p.m. ET 4/16/21.

Docket Numbers: ER21-1521-000.

Applicants: Southern California Edison Company.

Description: § 205(d) Rate Filing: SCE's Revision to Formula Rate Tariff Authorized 2021 PBOPs Expense Amount to be effective 1/1/2021.

Filed Date: 3/26/21.

Accession Number: 20210326-5012.

Comments Due: 5 p.m. ET 4/16/21.

Docket Numbers: ER21-1522-000.

Applicants: Midcontinent Independent System Operator, Inc., ALLETE, Inc.

Description: § 205(d) Rate Filing: 2021-03-26_SA 3640 and 3641 MP-GRE Riverton Agreements of Sale to be effective 3/27/2021.

Filed Date: 3/26/21.

Accession Number: 20210326-5016.

Comments Due: 5 p.m. ET 4/16/21.

Docket Numbers: ER21-1523-000.

Applicants: PJM Interconnection, L.L.C.

Description: Tariff Cancellation: Notice of Cancellation of WMPA, Service Agreement No. 4699; Queue No. AB1-065 to be effective 11/20/2020.

Filed Date: 3/26/21.

Accession Number: 20210326-5018.

Comments Due: 5 p.m. ET 4/16/21.

Docket Numbers: ER21-1524-000.

Applicants: Florida Power & Light Company.

Description: § 205(d) Rate Filing: FPL and OUC Service Agreement for Firm Point-To-Point Transmission Service to be effective 6/1/2021.

Filed Date: 3/26/21.

Accession Number: 20210326-5019.

Comments Due: 5 p.m. ET 4/16/21.

Docket Numbers: ER21-1525-000.

Applicants: Centerfield Cooper Solar, LLC.

Description: Baseline eTariff Filing: Reactive Power Compensation Filing to be effective 3/27/2021.

Filed Date: 3/26/21.

Accession Number: 20210326-5028.

Comments Due: 5 p.m. ET 4/16/21.

Docket Numbers: ER21-1526-000.

Applicants: Southern California Edison Company.

Description: § 205(d) Rate Filing: 2021 TACBAA Update to be effective 6/1/2021.

Filed Date: 3/26/21.

Accession Number: 20210326-5060.

Comments Due: 5 p.m. ET 4/16/21.

Docket Numbers: ER21-1527-000.

Applicants: Tri-State Generation and Transmission Association, Inc.

Description: Tariff Cancellation: Notice of Cancellation of Rate Schedule FERC No. 99 to be effective 3/27/2021.

Filed Date: 3/26/21.

Accession Number: 20210326-5068.

Comments Due: 5 p.m. ET 4/16/21.

Docket Numbers: ER21-1528-000.

Applicants: Midcontinent Independent System Operator, Inc., Duke Energy Indiana, LLC.

Description: § 205(d) Rate Filing: 2021-03-26_SA 3646 DEI-Hardy Hills E&P (J1063) to be effective 3/27/2021.

Filed Date: 3/26/21.

Accession Number: 20210326-5090.

Comments Due: 5 p.m. ET 4/16/21.

Docket Numbers: ER21-1529-000.

Applicants: New York Independent System Operator, Inc., Niagara Mohawk Power Corporation.

Description: § 205(d) Rate Filing: Joint 205 SGIA among NYISO, NMPC and Tayandenega Solar SA 2600 to be effective 3/3/2021.

Filed Date: 3/26/21.

Accession Number: 20210326-5099.

Comments Due: 5 p.m. ET 4/16/21.

Docket Numbers: ER21-1530-000.

Applicants: PECO Energy Company, PJM Interconnection, L.L.C.

Description: § 205(d) Rate Filing: PECO submits Revisions to Att. H-7A re: Depreciation and Amortization Rate to be effective 5/28/2021.

Filed Date: 3/26/21.

Accession Number: 20210326-5104.

Comments Due: 5 p.m. ET 4/16/21.

Docket Numbers: ER21-1531-000.

Applicants: Pacific Gas and Electric Company.

Description: § 205(d) Rate Filing: Work Performance Agreement for CDWR Contra Costa-Tesla (TO SA 275) to be effective 5/28/2021.

Filed Date: 3/26/21.

Accession Number: 20210326-5118.

Comments Due: 5 p.m. ET 4/16/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 26, 2021.
Nathaniel J. Davis, Sr.,
Deputy Secretary.

[FR Doc. 2021-06817 Filed 4-1-21; 8:45 am]

BILLING CODE 6717-01-P